DEPARTMENT OF COMMERCE

National Oceanic and Atmospheric Administration

RIN 0648-XU92

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scientific and Statistical Committee on March 16-17, 2010, to consider actions affecting New England fisheries in the exclusive economic zone (EEZ). Recommendations from this group will be brought to the full Council for formal consideration and action, if appropriate.

DATES: This meeting will be held on Tuesday, March 16, at 10 a.m. and Wednesday, March 17, 2010, at 8:30 a.m.

ADDRESSES: Meeting address: The meeting will be held at the Westin Boston Waterfront, 425 Summer Street, Boston, MA 02210; telephone: (617) 532-4600; fax: (617) 532-4889.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Tuesday, March 16, 2010

The Scientific and Statistical Committee (SSC) will discuss recommendations for the 2011-2013 red crab Acceptable Biological Catch (ABC) and review and possibly consider the 2010 ABC recommendation.

Wednesday, March 17, 2010

The SSC will reconsider the 2010-2011 ABC recommendation for the skate complex using updated survey data; review the Ecosystem-Based Fishery Management draft policy paper and recommend Terms of Reference and SSC representation for the fall 2010 SARC.

Although non-emergency issues not contained in this agenda may come before this group for discussion, those issues may not be the subject of formal action during this meeting. Recommendations will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at 978-465-0492, at least 5 days prior to the meeting date.

Authority: 16 U.S.C. 1801 et seq.

Dated: March 4, 2010.
William D. Chappell,
Acting Director, Office of Sustainable Fisheries, National Marine Fisheries Service.

[FR Doc. 2010-4984 Filed 3-4-10; 4:15 pm]

BILLING CODE 3510-22-S